SECURITIES AND EXCHANGE COMMISSION

[Release No. PA-35; File No. S7-04-06]

Privacy Act of 1974: Establishment of a New System of Records: Automated Emergency Notification System (SEC-53)

AGENCY: Securities and Exchange Commission.

ACTION: Notice of the establishment of a new system of records.

SUMMARY: In accordance with the requirements of the Privacy Act of 1974, as amended, 5 U.S.C. 552a, the Securities and Exchange Commission gives notice of a proposed Privacy Act system of records: “Automated Emergency Notification System (SEC-53).” This system will contain emergency contact information for current members, employees, and selected contractors of the Commission.

DATES: The new system will become effective March 20, 2006 unless further notice is given. The Commission will publish a new notice if the effective date is delayed to review comments or if changes are made based on comment received. To be assured of consideration, comments should be received on or before March 8, 2006.

ADDRESSES: Comments may be submitted by any of the following methods:

Electronic Comments

• Use the Commission's Internet comment form (http://www.sec.gov/rules/other.shtml); or

• Send an e-mail to rule-comments@sec.gov. Please include File Number S7-04-06 on the subject line.

Paper Comments

• Send paper comments in triplicate to Nancy M. Morris, Secretary, Securities and Exchange Commission, 100 F Street, NE., Washington, DC 20549-9303.

All submissions should refer to File Number S7-04-06. This file number should be included on the subject line if e-mail is used. To help us process and review your comments more efficiently, please use only one method. The Commission will post all comments on the Commission's Internet Web site (http://www.sec.gov/rules/other.shtml). Comments are also available for public inspection and copying in the Commission's Public Reference Room, 100 F Street, NE., Washington, DC 20549. All comments received will be posted without change; we do not edit personal identifying information from submissions. You should submit only information that you wish to make available publicly.

FOR FURTHER INFORMATION CONTACT: Barbara A. Stance, Chief Privacy Officer, U.S. Securities and Exchange Commission, Operations Center, 6432 General Green Way, Mail Stop 0-7, Alexandria, VA 22312-2413, (202) 551-7209.

SUPPLEMENTARY INFORMATION: The Commission gives notice of the proposed establishment of a new system of records, entitled “Automated Emergency Notification System (SEC-53).” The new system will contain emergency contact information for current members, employees, and selected contractors of the Commission.

The Commission has submitted a report of the new system of records to the Senate Committee on Homeland Security and Governmental Affairs, the House Committee on Government Reform, and the Office of Management and Budget, pursuant to 5 U.S.C. 552a(r) of the Privacy Act of 1974, as amended, and Appendix I to OMB Circular A-130, “Federal Agency Responsibilities for Maintaining Records About Individuals,” as amended on February 20, 1996 (61 FR 6435).

Accordingly, the Commission is adding a new system of records to read as follows:

SEC-53

SYSTEM NAME:

Automated Emergency Notification System.

SYSTEM LOCATION:

Securities and Exchange Commission, 100 F Street, NE, Washington, DC 20549.

CATEGORIES OF INDIVIDUALS COVERED BY THE SYSTEM:

Members and employees of the Commission, and selected contractors.

CATEGORIES OF RECORDS IN THE SYSTEM:

Name, Commission division or office, home zip code, work and personal electronic mail addresses, work, home and cellular telephone numbers, and Blackberry PIN numbers.

AUTHORITY FOR MAINTENANCE OF THE SYSTEM:

5 U.S.C. 301 and Executive Order 12656 of Nov. 18, 1988 on Assignment of Emergency Preparedness Responsibilities.

PURPOSE(S):

The purpose of this system of records is to maintain emergency contact information for current members, employees and selected contractors of the Commission. The system provides for high-speed message delivery that reaches all Commission personnel in response to threat alerts issued by the Department of Homeland Security, weather related emergencies or other critical situations that disrupt the operations and accessibility of a worksite. The system also provides for personnel accountability during an emergency, through personnel sign-in and rapid alert and notification.

ROUTINE USES OF RECORDS MAINTAINED IN THE SYSTEM, INCLUDING CATEGORIES OF USERS AND THE PURPOSE OF SUCH USES:

In addition to the conditions of disclosure under 5 U.S.C. 552a(b), Commission staff may provide these records to any Federal government authority for the purpose of coordinating and reviewing agency continuity of operations plans or emergency contingency plans developed for responding to Department of Homeland Security threat alerts, weather related emergencies or other critical situations.

POLICIES AND PRACTICES FOR STORING, RETRIEVING, ACCESSING, RETAINING, AND DISPOSING OF RECORDS IN THE SYSTEM:

STORAGE:

Records are maintained in a computerized database and on paper. Paper documents are kept in filing cabinets in secured facilities.

RETRIEVABILITY:

Records may be retrieved by the individual's name or by the categories listed above under “Categories of Records in the System.”

SAFEGUARDS:

Records are safeguarded by restricted computer passwords, locked file cabinets, and safes. Access to the records is restricted to those who require the records in the performance of official duties related to the purposes for which the system is maintained.

RETENTION AND DISPOSAL:

Periodic purging and disposal of those records concerning individuals no longer members, employees or contractors of the Commission. Otherwise, records are retained and disposed of in accordance with the appropriate National Archives and Records Administration General Records Schedules.

SYSTEM MANAGER(S) AND ADDRESS:

Executive Director, Office of the Executive Director, U.S. Securities and Exchange Commission, 100 F Street, NE., Washington, DC 20549-1627.

NOTIFICATION PROCEDURES:

All requests to determine whether this system of records contains a record pertaining to the requesting individual may be directed to the Privacy Act Officer, U.S. Securities and Exchange Commission, Operations Center, 6432 General Green Way, Mail Stop 0-7, Alexandria, VA 22312-2413.

RECORD ACCESS PROCEDURES:

Persons wishing to obtain information on the procedures for gaining access to or contesting the contents of this record may contact the Privacy Act Officer, U.S. Securities and Exchange Commission, Operations Center, 6432 General Green Way, Mail Stop 0-7, Alexandria, VA 22312-2413.

CONTESTING RECORDS PROCEDURES:

See record access procedures above.

RECORD SOURCE CATEGORIES:

Information is provided by current members and employees of the Commission and selected contractors.

EXEMPTIONS CLAIMED FOR THE SYSTEM:

None.

Dated: January 31, 2006.
By the Commission.
Nancy M. Morris,
Secretary.

[FR Doc. E6-1574 Filed 2-3-06; 8:45 am]

BILLING CODE 8010-01-P